DEPARTMENT OF HOMELAND SECURITY

Coast Guard

33 CFR 165

[Docket No. USCG-2018-0533]

Navigation and Navigable Waters, and Shipping; Technical, Organizational, and Conforming Amendments for U.S. Coast Guard Field Districts 5, 8, 9, 11, 13, 14, and 17

AGENCY: Coast Guard, DHS.

ACTION: Correcting amendments.

SUMMARY: On February 13, 2020, the Coast Guard published a final rule on Navigation and Navigable Waters, and Shipping; Technical, Organizational, and Conforming Amendments for U.S. Coast Guard Field Districts 5, 8, 9, 11, 13, 14, and 17. Effective March 16, 2020, that rule removed a security zone regulation when only the section heading for that regulation needed to be amended. This document corrects that error.

DATES: Effective August 10, 2020.

FOR FURTHER INFORMATION CONTACT: Dominique Christianson, Coast Guard, telephone 202-372-3856 or fax 202-372-8405.

SUPPLEMENTARY INFORMATION:

Correction

On February 13, 2020 the Coast Guard published a rule in the Federal Register (85 FR 8169), effective on March 16, 2020. Subsequent review of the rule revealed that it removed a security zone regulation, 33 CFR 165.809, when the only change needed was to amend the section heading for that regulation. Page 85 FR 8170 of the rule referred to a 2005 proposed rule (70 FR 9363) as support for removing the security zones in § 165.809, but that NPRM only proposed to “remove the Port of Port Lavaca-Point Comfort security zone.” And the final rule (70 FR 39176, 39178, July 7, 2005) that followed the NPRM revised § 165.809(a) so that it maintained the Corpus Christi Inner Harbor security zone. That 2005 rule also used the following section heading: § 165.809 Security Zone; Port of Corpus Christi Inner Harbor, Corpus Christi, TX.

All the 2020 rule should have done was to remove the reference to the Port of Port Lavaca-Point Comfort in the section heading. This document corrects the error of removing the Port of Corpus Christi Inner Harbor, Corpus Christi Safety Zone regulation by reinstating § 165.809 with the correct section heading.

We find good cause under 5 U.S.C. 553(d) to make this correction effective on its date of publication. Delaying its effective date would increase risk of vessel collisions as the security zone is needed to protect a portion of the waterway that has a high volume of commercial vessel traffic and military outload vessel traffic.

List of Subjects in 33 CFR Part 165

Harbors, Marine safety, Navigation (water), Reporting and recordkeeping requirements, Security measures, Waterways.

Accordingly, 33 CFR part 165 is corrected by making the following correcting amendments:

PART 165—REGULATED NAVIGATION AREAS AND LIMITED ACCESS AREAS

1. The authority citation for part 165 continues to read as follows:

Authority: 46 U.S.C. 70034, 70051; 33 CFR 1.05-1, 6.04-1, 6.04-6, and 160.5; Department of Homeland Security Delegation No. 0170.1.

2. Add § 165.809 to read as follows:

§ 165.809 Security Zone; Port of Corpus Christi Inner Harbor, Corpus Christi, TX.

(a) Location. The following area is designated as a security zone: All waters of the Corpus Christi Inner Harbor from the Inner Harbor Bridge (U.S. Hwy 181) to, and including the Viola Turning Basin.

(b) Regulations. (1) No recreational vessels, passenger vessels, or commercial fishing vessels may enter the security zone unless specifically authorized by the Captain of the Port Corpus Christi or a designated representative.

(2) Recreational vessels, passenger vessels and commercial fishing vessels requiring entry into the security zone must contact the Captain of the Port Corpus Christi or a designated representative. The Captain of the Port may be contacted via VHF Channel 16 or via telephone at (361) 888-3162 to seek permission to transit the area. If permission is granted, all persons and vessels must comply with the instructions of the Captain of the Port, Corpus Christi or a designated representative.

(3) Designated representatives include U.S. Coast Guard commissioned, warrant, and petty officers.

(c) Authority. In addition to 46 U.S.C. 70034, the authority for this section includes 46 U.S.C. 70116.

Dated: June 11, 2020.
J.E. McLeod,
Acting Chief, Office of Regulations and Administrative Law.

[FR Doc. 2020-12916 Filed 8-7-20; 8:45 am]

BILLING CODE 9110-04-P